DEPARTMENT OF TRANSPORTATION

Federal Railroad Administration

[Docket Number FRA-2015-0055]

Petition for Waiver of Compliance.

AGENCY: Federal Railroad Administration, DOT.

ACTION: Petition for Waiver of Compliance.

SUMMARY: This document provides the public notice that by a document dated May 14, 2015, the Pacific Railroad Preservation Association (PRPA) has petitioned the Federal Railroad Administration (FRA) for a waiver of compliance from certain provisions of the Federal railroad safety regulations.

DATES: Communications received by September 14, 2015 will be considered by FRA before final action is taken. Comments received after that date will be considered as far as practicable.

ADDRESSES: A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

All communications concerning these proceedings should identify the appropriate docket number and may be submitted by any of the following methods:

• Web site: www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

SUPPLEMENTARY INFORMATION:

In accordance with part 211 of Title 49 Code of Federal Regulations (CFR), this document provides the public notice that by a document dated May 14, 2015, the Pacific Railroad Preservation Association (PRPA) has petitioned the Federal Railroad Administration (FRA) for a waiver of compliance from certain provisions of the Federal railroad safety regulations contained at 49 CFR part 230—Steam Locomotive Inspection and Maintenance Standards. FRA assigned the petition Docket Number FRA-2015-0055.

PRPA is the operator of Spokane, Portland, and Seattle steam locomotive No. 700 (SP&S 700). PRPA is a member of the Oregon Rail Heritage Foundation (ORHF) in Portland, Oregon. SP&S 700 is a 4-8-4 “Northern” type of steam locomotive built by the Baldwin Locomotive Works in 1938. PRPA typically operates SP&S 700 for 31 service days or less per year, and expects to continue to do so in the future. PRPA requests a 138-calendar-day extension as it pertains to the 1,472 service-day inspection of the boiler as required by 49 CFR 230.17. SP&S 700 entered service on August 5, 2000. PRPA will perform all other inspections as required by 49 CFR part 230. The extension would allow the locomotive to operate through the winter tourist holiday season until December 31, 2015.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy.

See also http://www.regulations.gov/#!privacyNotice for the privacy notice of regulations.gov or interested parties may review DOT's complete Privacy Act Statement in the Federal Register published on April 11, 2000 (65 FR 19477).

Issued in Washington, DC, on July 22, 2015.
Ron Hynes,
Director, Office of Technical Oversight.

[FR Doc. 2015-18742 Filed 7-30-15; 8:45 am]

BILLING CODE 4910-06-P